ENVIRONMENTAL PROTECTION AGENCY

40 CFR Parts 52 and 70

[EPA-R07-OAR-2019-0300; FRL-9994-80-Region 7]

Air Plan Approval; Missouri; Revision to Emission Data, Emission Fees and Process Information Rule

AGENCY: Environmental Protection Agency (EPA).

ACTION: Proposed rule.

SUMMARY: The Environmental Protection Agency (EPA) is proposing approval of a State Implementation Plan (SIP) and Operating Permits Program revision submitted by the State of Missouri on January 15, 2019. The revisions add definitions, removes language referring to outdated emission fees, and updates incorporations by reference in the rule. The revision is administrative in nature and does not have an adverse effect on air quality. The EPA's proposed approval of this rule revision is being done in accordance with the requirements of the Clean Air Act (CAA).

DATES: Comments must be received on or before July 11, 2019.

ADDRESSES: You may send comments, identified by Docket ID No. EPA-R07-OAR-2019-0300 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Jonathan Meyer, Environmental Protection Agency, Region 7 Office, Air Quality Planning Branch, 11201 Renner Boulevard, Lenexa, Kansas 66219; telephone number (913) 551-7140; email address meyer.jonathan@epa.gov.

SUPPLEMENTARY INFORMATION: Throughout this document “we,” “us,” and “our” refer to the EPA.

Table of Contents

I. Written Comments

II. What is being addressed in this document?

III. Have the requirements for approval of a SIP revision and Operating Permits Program been met?

IV. What action is the EPA taking?

V. Incorporation by Reference

VI. Statutory and Executive Order Reviews

I. Written Comments

Submit your comments, identified by Docket ID No. EPA-R07-OAR-2019-0300, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. What is being addressed in this document?

The EPA is proposing to approve a revision to Missouri's SIP by approving the state's request to revise 10 CSR 10-6.110, Reporting Emission Data, Emission Fees, and Process Information, received January 15, 2019. Missouri revised 10 CSR 10-6.110 to correct minor typographical errors. In addition, section (2) of this rule is revised to include definitions for:

• Missouri Emissions Inventory System (MoEIS)—the online interface of the state of Missouri's air emissions inventory database.

• Point source—a large, stationary (nonmobile), identifiable source of emissions that releases pollutants into the atmosphere, that is either a major source under 40 CFR part 70 for the pollutants for which reporting is required; or a holder of an intermediate operating permit.

• Reporting year—Twelve (12) month calendar year ending December 31. The reporting requirement for installations with three (3)-year reporting cycles begins with the 2011 reporting year. The subsequent reporting years will be every three (3) years following 2011 (i.e., 2014, 2017, 2020, etc.).

• Small source—An installation subject to this rule but not a point source as defined in this section of the rule.

The addition of the above definitions to 10 CSR 10-6.110 provides additional context to requirements of the rule that were not previously defined but do no impact the applicability of the requirements of the rule.

Section (3)(A)1. revised the emission fees section, which is approved under the Operating Permits Program only, and removes language that applied to emissions fees prior to January 1, 2016. No changes were made to the emission fees in the rule.

Section (3)(B) is revised to update incorporation by reference of AP-42 (Environmental Protection Agency Compilation of Air Pollution Emission Factors) as published by the EPA in August 2018 and FIRE (Factor Information Retrieval System) as published by EPA August 2017.

Section (3)(C)4.B. was revised to update incorporation by reference of 40 CFR 52.21 as promulgated by EPA as of July 1, 2018.

Section (4)(C)2. was revised to clarify that an installation that does not submit a full emissions report is required to submit a reduced reporting form. The revised language does not alter the requirements of the rule.

Section (4)(C)7. was removed from the rule and no longer requires revised Emissions Inventory Questionnaires to be presented to the regulated community for a forty-five-day comment period.

The above revisions to 10 CSR 10-6.110 are administrative in nature, update incorporation by reference, or provide additional context to regulatory language without altering applicability of the rule and does not impact air quality. Therefore, the EPA proposes to approve the above revisions to 10 CSR 10-6.110.

III. Have the requirements for approval of a SIP revision and Operating Permits Program been met?

The state submission has met the public notice requirements for SIP submissions in accordance with 40 CFR 51.102. The submission also satisfied the completeness criteria of 40 CFR part 51, appendix V. The state provided public notice on this SIP revision from June 25, 2018, to August 2, 2018, and received comments from the EPA and a regulated entity. The state adequately addressed the public comments. In addition, the revision meets the substantive SIP requirements of the CAA, including section 110 and implementing regulations.

IV. What action is the EPA taking?

We are proposing to approve the revisions to Missouri's SIP and Missouri's Operating Permits Program by approving the state's request to revise 10 CSR 10-6.110, Reporting Emission Data, Emission Fees, and Process Information.

V. Incorporation by Reference

In this document, the EPA is proposing to include regulatory text in an EPA final rule that includes incorporation by reference. In accordance with requirements of 1 CFR 51.5, the EPA is proposing to incorporate by reference the Missouri Regulations described in the proposed amendments to 40 CFR part 52 set forth below. The EPA has made, and will continue to make, these materials generally available through www.regulations.gov and at the EPA Region 7 Office (please contact the person identified in the FOR FURTHER INFORMATION CONTACT section of this preamble for more information).

VI. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Environmental protection, Administrative practice and procedure, Air pollution control, Intergovernmental relations, Operating permits, Reporting and recordkeeping requirements.

Dated: June 6, 2019.
James Gulliford,
Regional Administrator, Region 7.

For the reasons stated in the preamble, the EPA proposes to amend 40 CFR parts 52 and 70 as set forth below:

PART 52—APPROVAL AND PROMULGATION OF IMPLEMENTATION PLANS

1. The authority citation for part 52 continues to read as follows:

Authority: 42 U.S.C. 7401 et seq.

Subpart AA—Missouri

2. In § 52.1320, the table in paragraph (c) is amended by revising the entry “10-6.110” to read as follows:

§ 52.1320 Identification of plan.

* * * * *

(c) * * *

EPA-Approved Missouri Regulations
Missouri citation | Title | State effective date | EPA approval date | Explanation
Missouri Department of Natural Resources
* * * * * * *
Chapter 6—Air Quality Standards, Definitions, Sampling and Reference Methods, and Air Pollution Control Regulations for the State of Missouri
| * * * * * * *
10-6.110 | Reporting Emission Data, Emission Fees, and Process Information | 1/30/2019 | [Date of publication of the final rule in the Federal Register], [Federal Register citation of the final rule] | Section (3)(A), Emissions Fees, has not been approved as part of the SIP.
| * * * * * * *

* * * * *

PART 70—STATE OPERATING PERMIT PROGRAMS

3. The authority citation for part 70 continues to read as follows:

Authority: 42 U.S.C. 7401, et seq.

Appendix A to Part 70—Approval Status of State and Local Operating Permits Programs

4. Appendix A to part 70 is amended by adding new paragraph (hh) under “Missouri” to read as follows: Missouri

* * * * *

(hh) The Missouri Department of Natural Resources submitted revisions to Missouri rule 10 CSR 10-6.110, “Reporting Emission Data, Emission Fees, and Process Information” on January 15, 2019. The state effective date is January 30, 2019. Approval of Section 3(A) of 10 CSR 10-6.110 is effective [date 30 days after date of publication of the final rule in the Federal Register].

* * * * *

[FR Doc. 2019-12217 Filed 6-10-19; 8:45 am]

BILLING CODE 6560-50-P